DEPARTMENT OF HEALTH AND HUMAN SERVICES

Health Resources and Services Administration

Advisory Committee on Interdisciplinary, Community-Based Linkages; Notice for Request for Nominations

SUMMARY: The Health Resources and Services Administration (HRSA) is requesting nominations to fill vacancies on the Advisory Committee on Interdisciplinary, Community-Based Linkages (ACICBL). The ACICBL is authorized by 42 U.S.C. 294f, section 757 of the Public Health Service (PHS) Act, as amended by the Patient Protection and Affordable Care Act. The Advisory Committee is governed by the Federal Advisory Act, Public Law (Pub. L.) 92-463, as amended (5 U.S.C. Appendix 2) which sets forth standards for the formation and use of advisory committees.

DATES: The agency will receive nominations on a continuous basis.

ADDRESSES: All nominations should be submitted to Regina Wilson, Advisory Council Operations, Bureau of Health Workforce, HRSA, 11w45c, 5600 Fishers Lane, Rockville, Maryland 20857. Mail delivery should be addressed to Regina Wilson, Advisory Council Operations, Bureau of Health Workforce, HRSA, at the above address, or via email to: RWilson@hrsa.gov.

FOR FURTHER INFORMATION CONTACT: Joan Weiss, Ph.D., RN, CRNP, FAAN, Designated Federal Official, ACICBL at 301-443-0430 or email at jweiss@hrsa.gov. A copy of the current committee membership, charter and reports can be obtained by accessing the http://www.hrsa.gov/advisorycommittees/bhpradvisory/acicbl/index.html.

SUPPLEMENTARY INFORMATION: The ACICBL provides advice and recommendations to the Secretary of Health and Human Services (Secretary) concerning policy, program development and other matters of significance related to interdisciplinary, community-based training grant programs authorized under sections 750-759, title VII, part D of the PHS Act, as amended. The ACICBL prepares an annual report describing the activities conducted during the fiscal year, identifying findings and developing recommendations to enhance these title VII, part D programs. The annual report is submitted to the Secretary and ranking members of the Senate Committee on Health, Education, Labor and Pensions, and the House of Representatives Committee on Energy and Commerce. The ACICBL also develops, publishes, and implements performance measures for programs under this part; develops and publishes guidelines for longitudinal evaluations (as described in section 761(d)(2)) for programs under this part; and recommends appropriation levels for programs under this part.

Specifically, HRSA is requesting nominations for voting members of the ACICBL representing: Area Health Education Centers, Education and Training Relating to Geriatrics, Rural Interdisciplinary Training, Allied Health, Podiatry, Chiropractic, Psychology, and Social Work.

The Department of Health and Human Services (HHS) will consider nominations of all qualified individuals with the areas of subject matter expertise noted above. Individuals may nominate themselves or other individuals, and professional associations and organizations may nominate one or more qualified persons for membership. Nominations shall state that the nominee is willing to serve as a member of the ACICBL and appears to have no conflict of interest that would preclude the ACICBL membership. Potential candidates will be asked to provide detailed information concerning financial interests, consultancies, research grants, and/or contracts that might be affected by recommendations of the ACICBL to permit evaluation of possible sources of conflicts of interest.

A nomination package should include the following information for each nominee: (1) A letter of nomination from an employer, a colleague, or a professional organization stating the name, affiliation, and contact information for the nominee, the basis for the nomination (i.e., what specific attributes, perspectives, and/or skills does the individual possess that would benefit the workings of ACICBL, and the nominee's field(s) of expertise); (2) a letter of self-interest stating the reasons the nominee would like to serve on the ACICBL; (3) a biographical sketch of the nominee and a copy of his/her curriculum vitae; and (4) the name, address, daytime telephone number, and email address at which the nominator can be contacted. Nominations will be considered as vacancies occur on the ACICBL. Nominations should be updated and resubmitted every three years to continue to be considered for committee vacancies.

HHS strives to ensure that the membership of HHS federal advisory committees is balanced in terms of points of view represented and the committee's function. Every effort is made to ensure that the views of women, all ethnic and racial groups, and people with disabilities are represented on HHS Federal advisory committees. The Department also encourages geographic diversity in the composition of the committee. The Department encourages nominations of qualified candidates from all groups and locations. Appointment to the ACIBL shall be made without discrimination on the basis of age, race, ethnicity, gender, sexual orientation, disability, and cultural, religious, or socioeconomic status.

Jackie Painter,
Director, Division of the Executive Secretariat.

[FR Doc. 2015-29550 Filed 11-18-15; 8:45 am]

BILLING CODE 4165-15-P